DEPARTMENT OF COMMERCE

International Trade Administration

[A-570-983]

Drawn Stainless Steel Sinks From the People's Republic of China: Final Results of Antidumping Duty Administrative Review; 2018-2019

AGENCY: Enforcement and Compliance, International Trade Administration, Department of Commerce.

SUMMARY: The Department of Commerce (Commerce) determines that the two mandatory respondents, Guangdong New Shichu Import and Export Company Limited (New Shichu) and KaiPing Dawn Plumbing Products, Inc. (KaiPing), have not established their eligibility for a separate rate and are part of the China-wide entity. We also continue to assign the China-wide rate to an additional nine companies, because we determine that they are not eligible for a separate rate. Finally, we continue to grant a separate rate to Jiangmen New Star Hi-Tech Enterprise Ltd. (New Star), which demonstrated eligibility for separate rate status but was not selected for individual examination. The period of review (POR) is April 1, 2018 through March 31, 2019.

DATES: Applicable February 27, 2020.

FOR FURTHER INFORMATION CONTACT: Rebecca Janz or Adam Simons, AD/CVD Operations, Office II, Enforcement and Compliance, International Trade Administration, U.S. Department of Commerce, 1401 Constitution Avenue NW, Washington, DC 20230; telephone: (202) 482-2972 or (202) 482-6172, respectively.

SUPPLEMENTARY INFORMATION: On December 26, 2019, Commerce published the Preliminary Results.¹ Although we invited parties to comment on the Preliminary Results,² no interested party submitted comments. Accordingly, no decision memorandum accompanies this Federal Register notice. Commerce conducted this administrative review in accordance with section 751 of the Tariff Act of 1930, as amended (the Act).

¹ See Drawn Stainless Steel Sinks from the People's Republic of China: Preliminary Results of the Antidumping Duty Administrative Review and Preliminary Determination of No Shipments; 2018-2019, 84 FR 70946 (December 26, 2019) (Preliminary Results), and accompanying Preliminary Decision Memorandum (PDM).

² Id., 84 FR at 70947.

Scope of the Order

The products covered by the order include drawn stainless steel sinks. Imports of subject merchandise are currently classified under the Harmonized Tariff Schedule of the United States (HTSUS) subheadings 7324.10.0000 and 7324.10.0010. Although the HTSUS subheadings are provided for convenience and customs purposes, the written description of the scope of the order is dispositive.³

³ For a complete description of the scope of the order, see the Preliminary Results PDM at 3-4.

Final Results of Review and Final Determination of No Shipments

We made no changes from the Preliminary Results. Therefore, as a result of this review, we determine that the two mandatory respondents, New Shichu and KaiPing, have not established their eligibility for a separate rate and are part of the China-wide entity. We also determine that, because the following companies did not submit separate rate applications or certifications, they are ineligible for a separate rate and are part of the China-wide entity: B&R Industries Limited (B&R); Feidong Import and Export Co. Ltd. (Feidong); Guangdong G-Top Import & Export Co., Ltd. (G-Top); Jiangmen Pioneer Import & Export Co., Ltd. (Pioneer); Ningbo Afa Kitchen and Bath Co., Ltd. (Ningbo Afa); Xinhe Stainless Steel Products Co., Ltd. (Xinhe); Yuyao Afa Kitchenware Co., Ltd. (Yuyao Afa); and Zhongshan Superte Kitchenware Co., Ltd. (Superte). We also determine that, because Zhuhai Kohler Kitchen & Bathroom Products Co. Ltd. (Kohler) failed to respond to Commerce's supplemental separate rate questionnaire, this company is ineligible for a separate rate and is part of the China-wide entity. Finally, we continue to grant a separate rate to New Star, which demonstrated eligibility for separate rate status, but was not selected for individual examination.⁴ We determine that the dumping margin for New Star for the period April 1, 2018 through March 31, 2019 is as follows:

⁴ We assigned New Star the most recently assigned separate rate in this proceeding (i.e., 1.78 percent). See Drawn Stainless Steel Sinks from the People's Republic of China: Final Results of Antidumping Duty Administrative Review; 2017-2018, 84 FR 38211 (August 6, 2019).

Exporter | Weighted- average dumping margin (percent)
Jiangmen New Star Hi-Tech Enterprise Ltd. | 1.78

Assessment Rates

Commerce shall determine, and U.S. Customs and Border Protection (CBP) shall assess, antidumping duties on all appropriate entries in accordance with section 751(a)(2)(C) of the Act and 19 CFR 351.212(b). Because we determined that the following companies were not eligible for a separate rate and are part of the China-wide entity, we will instruct CBP to apply an ad valorem assessment rate of 76.45 percent to all entries of subject merchandise during the POR that were produced and/or exported by: B&R; Feidong; G-Top; KaiPing; Kohler; New Shichu; Ningbo Afa; Pioneer; Superte; Xinhe; and Yuyao Afa. We will instruct CBP to apply an assessment rate to all entries of merchandise produced and/or exported by New Star equal to the dumping margin indicated above. Commerce intends to issue assessment instructions to CBP 15 days after the date of publication of these final results of review.

Cash Deposit Requirements

The following cash deposit requirements will be effective for all shipments of subject merchandise entered, or withdrawn from warehouse, for consumption on or after the publication date of the final results of this administrative review, as provided by section 751(a)(2)(C) of the Act: (1) For the company listed above that has a separate rate, the cash deposit rate will be the rate established in these final results of review; (2) for previously investigated or reviewed Chinese and non-Chinese exporters not listed above that have separate rates, the cash deposit rate will continue to be equal to the exporter-specific weighted-average dumping margin published of the most recently-completed segment of this proceeding; (3) for all Chinese exporters of subject merchandise that have not been found to be entitled to a separate rate, the cash deposit rate will be the rate for China-wide entity, 76.45 percent; and (4) for all exporters of subject merchandise which are not located in China and which are not eligible for a separate rate, the cash deposit rate will be the rate applicable to Chinese exporter(s) that supplied that non-Chinese exporter. These deposit requirements, when imposed, shall remain in effect until further notice.

Notification to Importers

This notice serves as a reminder to importers of their responsibility, under 19 CFR 351.402(f)(2), to file a certificate regarding the reimbursement of antidumping duties prior to liquidation of the relevant entries during this review period. Failure to comply with this requirement could result in Commerce's presumption that reimbursement of antidumping duties occurred and the subsequent assessment of double antidumping duties.

Notification Regarding Administrative Protective Order

This notice also serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing this notice in accordance with sections 751(a)(1) and 777(i) of the Act, and 19 CFR 351.213(h) and 351.221(b)(5).

Dated: February 20, 2020.
Jeffrey I. Kessler,
Assistant Secretary for Enforcement and Compliance.

[FR Doc. 2020-04007 Filed 2-26-20; 8:45 am]

BILLING CODE 3510-DS-P